FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Report of Institution-to-Aggregate Granular Data on Assets and Liabilities on an Immediate Counterparty Basis (FR 2510; OMB No. 7100-0376).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 2510.

Final Approval Under OMB Delegated Authority of the Extension for Three Years, Without Revision, of the Following Information Collection

Collection title: Report of Institution-to-Aggregate Granular Data on Assets and Liabilities on an Immediate Counterparty Basis.

Collection identifier: FR 2510.

OMB control number: 7100-0376.

General description of collection: The FR 2510 collects granular exposure data on the assets, liabilities, and off-balance sheet holdings of certain large banking organizations, providing breakdowns by country, instrument, currency, maturity, sector, and other factors. The FR 2510 also collects country exposure data on an immediate counterparty basis and detailed information on firms' derivatives exposures. The information collected by the FR 2510 supports the Board's supervision of global systemically important bank holding companies (BHCs) by allowing for a more complete balance sheet analysis of these firms and allows the Board to more closely monitor the systemic impacts of such firms' activities and investments.

Frequency: Quarterly.

Respondents: Any BHC that is organized under the laws of the United States or any U.S. state and that is identified as a global systemically important BHC under the Board's Regulation Q.

Total estimated number of respondents: 8.

Total estimated annual burden hours: 18,528.

Current actions: On December 6, 2024, the Board published a notice in the Federal Register (89 FR 96975) requesting public comment for 60 days on the extension, without revision, of the FR 2510. The comment period for this notice expired on February 4, 2025. The Board did not receive any comments.

Board of Governors of the Federal Reserve System, April 23, 2025.
Benjamin W. McDonough,
Deputy Secretary and Ombuds of the Board.

[FR Doc. 2025-07266 Filed 4-25-25; 8:45 am]

BILLING CODE 6210-01-P